DEPARTMENT OF LABOR

Mine Safety and Health Administration

30 CFR Parts 70, 75 and 90

RIN 1219-AB14

Verification of Underground Coal Mine Operators' Dust Control Plans and Compliance Sampling for Respirable Dust

AGENCY: Mine Safety and Health Administration (MSHA), Labor.

ACTION: Proposed rule; notice of public hearings; close of record.

SUMMARY: We will hold public hearings to receive public comments on a proposed rule published in the Federal Register on July 7, 2000. The proposal would revoke existing operator respirable dust sampling procedures under 30 CFR parts 70 and 90, and would require underground mine operators to verify the effectiveness of mine ventilation plans (plan verification).

These hearings will be held pursuant to section 101 (30 U.S.C. 811) of the Federal Mine Safety and Health Act of 1977 (Mine Act).

Please also see the joint public hearing notice published in today's Federal Register by the Department of Labor and the Department of Health and Human Services addressing single, full-shift sampling.

DATES: If individuals or organizations wish to make an oral presentation for the record, submit your request at least five days prior to the hearing date. However, you do not have to make a written request to speak. Any unalloted time will be made available to persons making same-day requests.

The public hearings will be held on the following dates and locations:

(1) August 7, 2000 from 8:30 a.m.-5:00 p.m. (Day 1)

August 8, 2000 from 8:30 a.m.-12:00 p.m. (Day 2) (if necessary)

Morgantown, West Virginia

(2) August 10, 2000 from 8:30 a.m.-5:00 p.m. (Day 1)

August 11, 2000 from 8:30 a.m.-12:00 p.m. (Day 2) (if necessary)

Prestonsburg, Kentucky

(3) August 16, 2000 from 8:30 a.m.-5:00 p.m. (Day 1)

August 17, 2000 from 8:30 a.m.-12:00 p.m. (Day 2) (if necessary)

Salt Lake City, Utah

To the extent possible, we would like to hear comments on the notices of proposed rulemaking in sequence. At each hearing site during the first part of Day 1 (until approximately 12:00 p.m.) we would like to hear comments on the single, full-shift sampling proposed rule. The second part of Day 1 we would like to hear comments on the plan verification proposal. If a second day of hearings is necessary at a hearing site, we would devote this time to hear comments on the plan verification proposal.

If necessary, the time can be extended each day to give all interested parties an opportunity to present testimony.

The rulemaking record will close on August 24, 2000.

ADDRESSES: You may use mail, facsimile (fax), or electronic mail to send us your requests to make oral presentations at the public hearings. Clearly identify your requests and send them— (1) By mail to Carol J. Jones, Director, Office of Standards, Regulations, and Variances, MSHA, 4015 Wilson Boulevard, Room 631, Arlington, VA 22203;

(2) By fax to MSHA, Office of Standards, Regulations, and Variances, 703-235-5551; or

(3) By electronic mail to comments@msha.gov.

The hearings will be held on the following dates at the following locations:

1. August 7 and 8,* 2000, Holiday Inn, 1400 Saratoga Avenue, Morgantown, West Virginia 26505, 304-599-1680.

2. August 10 and 11,* 2000, Holiday Inn, 1887 N US 23, Prestonsburg, Kentucky 41653, 606-886-0001.

3. August 16 and 17,* 2000, Hilton Salt Lake City Center, 255 S West Temple, Salt Lake City, Utah 84101, 801-328-2000.

* if necessary

FOR FURTHER INFORMATION CONTACT: Carol J. Jones, Director; Office of Standards, Regulations, and Variances, MSHA, 4015 Wilson Boulevard, Arlington, VA 22203-1984; 703-235-1910.

SUPPLEMENTARY INFORMATION:

I. Background

On July 7, 2000, we published a proposed rule which would revoke existing operator respirable dust sampling procedures under 30 CFR parts 70 and 90. The proposal would implement new regulations under which MSHA would verify the effectiveness of a mine operator's dust control parameters for mechanized mining units (MMUs) specified in the mine ventilation plan before these plans are approved. Verification sampling would be conducted under more typical production levels and for the actual length of the production shift. Please see the proposal published elsewhere in today's Federal Register for more information.

II. Conduct of Public Hearings

The hearings will be conducted in an informal manner, and chaired by Marvin W. Nichols, Jr. on behalf of MSHA. Although formal rules of evidence or cross examination will not apply, the presiding official may exercise discretion to ensure the orderly progress of the hearings and may exclude irrelevant or unduly repetitious material and questions.

Each session will begin with an opening statement from MSHA, followed by an opportunity for members of the public to make oral presentations. The hearing panel may ask questions of speakers. At the discretion of the presiding official, the time allocated to speakers for their presentations may be limited. In the interest of conducting productive hearings, we will schedule speakers in a manner that allows all points of view to be heard as effectively as possible. If necessary, the hearings will continue into the evening to allow all interested parties an opportunity to speak.

Verbatim transcripts of the proceedings will be prepared and made a part of the rulemaking record. We will make available copies of the hearing transcripts for public review.

We will accept additional written comments and other appropriate data for the record from any interested party, including those not presenting oral statements. Written comments and data submitted to us will be included in the rulemaking record.

III. Close of Rulemaking Record

To allow for the submission of post-hearing comments, the rulemaking record will remain open until August 24, 2000.

Dated: June 30, 2000.
Robert A. Elam,
Deputy Assistant Secretary for Mine Safety and Health.

[FR Doc. 00-17128 Filed 7-6-00; 8:45 am]

BILLING CODE 4510-43-P